DEPARTMENT OF JUSTICE

[OMB Number 1123-0NEW]

Agency Information Collection Activities; Proposed eCollection eComments Requested; New Collection; Title—COP Community Policing Advancement Performance Report

AGENCY: Office of Community Oriented Policing Services, Department of Justice.

ACTION: 60-Day notice.

SUMMARY: The Office of Community Oriented Policing Services, Department of Justice (DOJ), will be submitting the following information collection request to the Office of Management and Budget (OMB) for review and approval in accordance with the Paperwork Reduction Act of 1995.

DATES: Comments are encouraged and will be accepted for 60 days until January 13, 2025.

FOR FURTHER INFORMATION CONTACT: If you have additional comments especially on the estimated public burden or associated response time, suggestions, or need a copy of the proposed information collection instrument with instructions or additional information, please contact Dave Neely, Department of Justice Office of Community Oriented Policing Services, 145 N St. NW, Washington, DC 20530, -1584 -avid.neely2@usdoj.gov (202) 514-8553.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under the Gambling Devices Act of 1962 (15 U.S.C. 1171-1178) mandates that the Department of Justice register all entities that participate in the interstate commerce of gambling devices. Registration involves the collection of certain information from the respondent, as specified in the Act.

Overview of This Information Collection

1. Type of Information Collection: New collection.

2. The Title of the Form/Collection: COPS Community Policing Advancement Performance Report.

3. The agency form number, if any, and the applicable component of the Department sponsoring the collection: None. U.S. Department of Justice Office of Community Oriented Policing Services.

4. Affected public who will be asked or required to respond, as well as the obligation to respond: Affected Public Primary: Law enforcement agencies and other public and private entities that respond to a bi-annual performance report.

5. An estimate of the total number of respondents and the amount of time estimated for an average respondent to respond: It is estimated that 430 respondents will complete the form on a bi-annual basis taking an estimated 20 minutes per report twice a year.

6. An estimate of the total annual burden (in hours) associated with the collection: There are an estimated 287 total annual burden hours associated with this collection.

Total Burden Hours
Activity | Number of respondents | Frequency (biannual) | Total annual responses | Time per response (mins) | Total annual burden (hours)
Form | 430 | 2 | 430 | 20 | 287
Unduplicated Totals | 430 | 2 | 430 | 20 | 287

If additional information is required contact: Darwin Arceo, Department Clearance Officer, United States Department of Justice, Justice Management Division, Policy and Planning Staff, Two Constitution Square, 145 N Street NE, 4W-218, Washington, DC.

Dated: November 6, 2024.
Darwin Arceo,
Department Clearance Officer for PRA, U.S. Department of Justice.

[FR Doc. 2024-26133 Filed 11-8-24; 8:45 am]

BILLING CODE 4410-AT-P